DEPARTMENT OF DEFENSE

Department of the Army; Corps of Engineers

Chief of Engineers Environmental Advisory Board

AGENCY: Army Corps of Engineers, DoD.

ACTION: Notice of open meeting.

SUMMARY: In accordance with Section 10(a)(2) of the Federal Advisory Committee Act (Pub. L. 92-463), announcement is made of the forthcoming meeting of the Chief of Engineers Environmental Advisory Board (EAB). The meeting is open to the public.

DATES: The meeting will be held from 1:30 to 4:30 p.m. on Tuesday, April 24, 2001.

ADDRESSES: The meeting will be in room 3M65-66, 441 G Street, NW., Washington, DC.

FOR FURTHER INFORMATION CONTACT: Ms. Ellen Cummings, Headquarters, U.S. Army Corps of Engineers, Washington, DC 20314-1000, (202) 761-4558.

SUPPLEMENTARY INFORMATION: The Board advises the Chief of Engineers on environmental policy, identification and resolution of environmental issues and missions, and addressing challenges, problems and opportunities in an environmentally sustainable manner. This meeting will include brief presentations of current issues and discussion of future meeting topics.

In order to facilitate access to 441 G Street, NW., interested parties are requested to notify our office (above address) in writing at least five days prior to the meeting of their intent to attend.

Luz D. Ortiz,
Army Federal Register Liaison Officer.

[FR Doc. 01-7915 Filed 3-29-01; 8:45 am]

BILLING CODE 3710-92-M